FEDERAL COMMUNICATIONS COMMIISSION

47 CFR Part 76

[MM Docket No. 98-35; FCC 03-21]

Cable/Broadcast Ownership Rules

AGENCY: Federal Communications Commission.

ACTION: Final rule.

SUMMARY: This document eliminates the cable/broadcast cross ownership rule in response to a court decision vacating the rule and directing the Commission to repeal the rule. The action is taken in compliance with the court's directive.

DATES: This document became effective on January 31, 2003.

FOR FURTHER INFORMATION CONTACT: Erin Dozier, Attorney, Media Bureau, 202-418-7040.

SUPPLEMENTARY INFORMATION: 1. As part of the 1998 Biennial Regulatory Review mandated by section 202(h) of the Telecommunications Act of 1996 (47 U.S.C. 161), the Commission reexamined the cable/broadcast cross-ownership rule and determined that the rule should be retained. (In the Matter of 1998 Biennial Regulatory Review—Review of the Commission's Broadcast Ownership Rules and Other Rules Adopted Pursuant to Section 202 of the Telecommunications Act of 1996, MM Docket No. 98-35, Biennial Review Report, 65 FR 4333, July 13, 2000. In Fox Television Stations, Inc. v. FCC, 280 F.3d 1027 (DC Cir. Feb. 19, 2002), the United States Court of Appeals for the District of Columbia Circuit found that the Commission's decision to retain the cable/broadcast cross-ownership rule was arbitrary and capricious and contrary to section 202(h). (Fox, 280 F.3d at 1033, 1049) The court vacated the cable/broadcast cross-ownership rule, and directed the Commission to repeal the rule.

2. Accordingly, the Commission hereby repeals section 76.501(a) of our rules. The Commission also repeals as no longer applicable section 76.501(c) of our rules, which established the effective date of the rule.

Ordering Clauses

3. Accordingly, paragraphs (a) and (c) of section 76.501 of the Commission's rules, 47 CFR 76.501(a), and 76.501(c) are repealed, effective upon the adoption of this Order.

4. The Commission's rules are further amended as set forth in the rule amendments section of this decision.

5. This action is taken pursuant to sections 4(i), 4(j), and 303 of the Communications Act of 1934, as amended, 47 U.S.C. 154(i), 154(j), and 303, and section 202(h) of the Telecommunications Act of 1996, 47 U.S.C. 161. The Commission finds that notice and comment are unnecessary under 5 U.S.C. 553(b) because this is a ministerial order issued at the direction of the United States Court of Appeals for the District of Columbia Circuit.

List of Subjects in 47 CFR Part 76

Cable television.

Federal Communications Commission.
Marlene H. Dortch,
Secretary.

Rule Changes

For the reasons discussed in the preamble, the Federal Communications Commission amends 47 CFR part 76 as follows:

PART 76—MULTICHANNEL VIDEO AND CABLE TELEVISION SERVICE

1. The authority citation for part 76 continues to read as follows:

Authority: 47 U.S.C. 151, 152, 153, 154, 301, 302, 303, 303a, 307, 308, 309, 312, 317, 325, 338, 339, 503, 521, 522, 531, 532, 533, 534, 535, 536, 537, 543, 544, 544a, 545, 548, 549, 552, 554, 556, 558, 560, 561, 571, 572, and 573.

§ 76.501 [Amended]

2. Section 76.501 is amended by removing and reserving paragraphs (a) and (c).

[FR Doc. 03-6484 Filed 3-18-03; 8:45 am]

BILLING CODE 6712-01-P